DEPARTMENT OF COMMERCE

International Trade Administration

Initiation of Antidumping and Countervailing Duty Administrative Reviews, Requests for Revocation in Part and Deferral of Administrative Reviews

AGENCY: Import Administration, International Trade Administration, Department of Commerce.

ACTION: Notice of Initiation of Antidumping and Countervailing Duty Administrative Reviews, Requests for Revocation in Part and Deferral of Administrative Review.

SUMMARY: The Department of Commerce (the Department) has received requests to conduct administrative reviews of various antidumping and countervailing duty orders and findings with September anniversary dates. In accordance with the Department's regulations, we are initiating those administrative reviews. The Department also received requests to revoke two antidumping duty orders in part and to defer the initiation of an administrative review for one antidumping duty order.

EFFECTIVE DATE: October 30, 2000.

FOR FURTHER INFORMATION CONTACT: Holly A. Kuga, Office of AD/CVD Enforcement, Import Administration, International Trade Administration, U.S. Department of Commerce, 14th Street and Constitution Avenue, N.W., Washington, D.C. 20230, telephone: (202) 482-4737.

SUPPLEMENTARY INFORMATION:

Background

The Department has received timely requests, in accordance with 19 CFR 351.213(b)(2000), for administrative reviews of various antidumping and countervailing duty orders and findings with September anniversary dates. The Department also received timely requests to revoke in part the antidumping duty orders on Certain Corrosion-Resistant Carbon Steel Flat Products from Canada and Large Newspaper Printing Presses and Components Thereof from Japan. The request for revocation in part with respect to Certain Corrosion-Resistant Carbon Steel Flat Products from Canada was inadvertently omitted from the previous initiation notice (65 FR 58733, October 2, 2000). In addition, the Department received a request to defer for one year the initiation of the September 1, 1999 through August 31, 2000 administrative review of the antidumping duty order on Large Newspaper Printing Presses and Components Thereof, Whether Assembled or Unassembled from Germany with respect to one exporter in accordance with 19 CFR 351.213(c). The Department received no objection to this request from any party cited in 19 CFR 351.213(c)(1)(ii).

Initiation of Reviews

In accordance with sections 19 CFR 351.221(c)(1)(i), we are initiating administrative reviews of the following antidumping and countervailing duty orders and findings. We intend to issue the final results of these reviews not later than September 30, 2001. Also, in accordance with 19 CFR 351.213(c), we are deferring for one year the initiation of the September 1, 1999 through August 31, 2000 administrative review of the antidumping duty order on Large Newspaper Printing Pressess and Components Thereof, Whether Assembled or Unassembled, from Germany with respect to one exporter.

| Period to be reviewed
Antidumping Duty Proceedings
Germany: Large Newspaper Printing Presses and Components Thereof, Whether Assembled or Unassembled, A-428-821 | 9/1/99-8/31/00
MAN Roland Druckmaschinen AG
Italy: Stainless Steel Sheet and Strip in Coils A-475-824 | ¹ 1/4/99-6/30/00
Acciai Speciali Terni S.p.A
Japan: Large Newspaper Printing Pressess and Components Thereof, Whether Assembled or Unassembled, A-588-837 | 9/1/99-8/31/00
Mitsubishi Heavy Industries, Ltd
Tokyo Kikai Seisakusho, Ltd
Taiwan: Stainless Steel Wire Rod, A-583-828 | 9/1/99-8/31/00
Walsin Lihwa Corporation
The People's Republic of China: Freshwater Crawfish Tail Meat,* A-570-848 | 9/1/99-8/31/00
Anhui Chaohu Daxin Meat Poultry Co., Ltd
Anhui Cereals, Oils & Foodstuffs
Anhui Provincial Aquatic Co
Baoluu Waterstuff Co., Ltd
Baoying Freezing Plant
Baoying County Freezing Plant
Beijing Farenco
China Kingdom Import & Export Co., Ltd., aka China Kingdoma Import & Export Co., Ltd., aka Zhongda Import & Export Co., Ltd
Ever Concord
Feidong Freezing Plant
Fubao Aquatic Foodstuff Co., Ltd
Fujian Hualong Aquatic Trade Development Co. Lianjian Seafood Processing Plant
Fujian Pelagic Fishery Group Co
Fujian Hualong Aquatic Trade Development
Funing County Frozen Food
Guangzhou Xinye Plastic Products
Hengji Trading Co., Ltd
Hexing Foodstuff Co., Ltd
Hongze County Laoshan Danxian Freeszing Factory
Hongze Lake Green Food Co., Ltd
Hongze County Aquatic Freezing Factory
Hua Yin
Huai Yin
Huaiyin County Freezing Factory
Huaiyin Foreign Economic Relations and Trade Committee
Huaiyin Foreign Trade Corp. Shunda Branch
Huaiyin Foreign Trade Corporation
Huaiyin Foreign Trade Corporation (1)
Huaiyin Foreign Trade Corporation (3)
Huaiyin Foreign Trade Corporation (5)
Huaiyin Foreign Trade Corporation (30)
Huaiyin Foreign Trading
Huaiyin Luky Trade Corp
Huaiyin Shunda Economic and Technology Trading Co
JAS Forwarding
Jiangsu Zhenfeng Group Foodstuff
Jiangsu Zhenfeng Group
Jiangsu Lukang Foodstuffs
Jin Hu Foreign Trading
Jinghu Aquatic Foodstuff Processing Plant
Jinpeng Agriculture and By-Product Development Co
Laoshan Brother Freezing Plant
Mr. Edward Lee
Lianyungang Haiwang Aquatic Products Co., Ltd
Liaoning Limeng Exports & Imports
Mr. Lin Zhong Nan
Mr. Ma Guo Zhong
Nantong Shengfa Frozen Food Co., Ltd
Nantong Delu Aquatic Food Co., Ltd
Neptune International
Ningbo Nanlian Frozen Foods Company, Ltd
Pacific Coast Fisheries Corp
Panwin Logistics
Qidong Baoluu Aquatic Food Co., Ltd
Qingdao Rirong Foodstuff Co., Ltd., aka Qingdao Rirong Foodstuffs
Qingdao Shun Hang Forwarding
Qingdao Zhengri Seafood Co., Ltd., aka Qingdao Zhengri Seafoods
Qingshan Foodstuff Co., Ltd
Rich Shipping
Seatrade International, aka Seatrade Enter
Shanghai Guangxun Trading
Shanghai Zhongjian International Trading
Shantou SEZ Yangfeng Marine Products Co
Suqian Foreign Trade Corp., aka Suqian Foreign Trading
Suyang Shuangyu Food Co., Ltd
Toyo Warehouse, aka TKK Toyo
Mr. Wei Wei, aka Philip Wei
Mr. Wei Zhang
Weishan Fukang Foodstuffs Co., Ltd
Weishan Jinmuan Foodstuff
Weishan Hongfa Lake Foodstuff Co., Ltd. aka Weishan Fongfa Lake Foodstuff
Y & Z International, aka Y & Z International Trading
Yancheng Baolong Biochemical Products Co., Ltd
Yancheng Foreign Trade Corp., aka
Yancheng Foreign Trading, aka Yang Chen Foreign Trading
Yancheng Fubao Aquatic Food Co., Ltd
Yancheng Haibao Foods
Yancheng Haiteng Aquatic Products & Foods Co., Ltd
Yancheng Yaou Seafoods
Mr. Yang Yi Xiang
Yangzhou Foreign Trading
Yangzhou Lakebest Foods Co., Ltd
Yiaxian No. 2 Freezing Processing Factory
Yundong Aquatic Products Processing Factory
Yundong Waterstuff Processing Plant
Zegao Daxin Foodstuff Freezing Plant
Zegao Foodstuff Freezing Plant
Mr. Zhang Wei
Zhenfeng Foodstuff Co
Zhenfeng Group Food Co
* If one of the above named companies does not qualify for a separate rate, all other exporters of freshwater crawfish tail meat from the People's Republic of China who have not qualified for a separate rate are deemed to be covered by this review as part of the single PRC entity of which the named exporters are a part
Countervailing Duty Proceedings
Belgium: Stainless Steel Plate in Coils, C-423-809 | 9/4/98-12/31/99
ALZ, N.V.²
Suspension Agreements
None
Deferral of Initiation of Administrative Review
Germany: Large Newspaper Printing Pressess and Components Thereof, Whether Assembled or Unassembled, A-428-821 | 9/1/99-8/31/00
Koenig & Bauer-Albert AG
¹ In the initiation notice published on October 2, 2000, (65 FR 58733), the review period for Acciai was incorrect. The period listed above is the correct period of review for that firm.
² In the initiation notice published on July 7, 2000, (65 FR 41942), the review period for this case was incorrect. The period of review was corrected in the initiation notice published on October 2, 2000, (65 FR 58733); however, in that notice the company name was incorrectly reported as “Acciai Speciali Terni S.p.A.” The correct company name is “ALZ, N.V.”

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: October 24, 2000.
Holly A. Kuga,
Acting Deputy Assistant Secretary, Group II for Import Administration.

[FR Doc. 00-27815 Filed 10-27-00; 8:45 am]

BILLING CODE 3510-DS-P